DEPARTMENT OF AGRICULTURE

Forest Service

Kootenai National Forest, Lincoln County, Montana Montanore Project

AGENCY: Forest Service, USDA.

ACTION: Notice of intent to prepare a supplemental environmental impact statement.

SUMMARY: The Kootenai National Forest (KNF) will prepare a Supplemental Environmental Impact Statement (SEIS) on a proposed federal action, which is approval of a Plan of Operations for the Evaluation Phase of the Montanore Project (Project) The Project is a proposed underground copper and silver mine located about 18 miles south of Libby, near the Cabinet Mountains within the Libby Ranger District, Kootenai National Forest, Lincoln County, Montana. The Montanore Project is proposed by Montanore Minerals Corp. (MMC), a subsidiary of Hecla Mining Co.

DATES: Scoping is not required for an SEIS (40 CFR 1502.9(c)(4)). The Forest Service is not inviting comments at this time. The draft SEIS is expected to be available for public review and comment in the first quarter of 2018 and the final SEIS is expected to be issued in the second quarter of 2018. The comment period for the draft SEIS will be for 45 days from the date the Environmental Protection Agency publishes the notice of availability in the Federal Register.

ADDRESSES: Kootenai National Forest, 31374 U.S. Highway 2, Libby, MT 59923.

FOR FURTHER INFORMATION CONTACT: Lynn Hagarty, Project Coordinator, Kootenai National Forest, Supervisor's Office, 31374 U.S. Highway 2, Libby, MT 59923-3022. Inquiries can be made by phone at (406) 293-6211 or via email at lhagarty@fs.fed.us.

SUPPLEMENTARY INFORMATION: This SEIS and related proposed federal action, which is the approval of a Plan of Operations for the Evaluation Phase of the Montanore Project, is being completed consistent with the Organic Administration Act, the Locatable Minerals Regulations (36 CFR 228 Subpart A), and the Multiple Use Mining Act. The KNF issued a Joint Final Environmental Impact Statement (JFEIS) in December 2015 and a Record of Decision (ROD) in February 2016. The Montana Department of Environmental Quality (DEQ) also issued a ROD in February 2016 that provided the State's approval of the Evaluation Phase of the project. In a U.S. District Court opinion issued on May 30, 2017 in a consolidated case (Save Our Cabinets v. U.S. Dep't of Agric., No. CV-16-53-M-DWM and Libby Placer Mining Co. v. U.S. Forest Serv., No. CV 16-56-M-DWM), the U.S. District Court ruled that the Forest Service violated, in various respects, the Clean Water Act, the Organic Administration Act, the National Forest Management Act, and the National Environmental Policy Act by approving the Montanore Project. In a separate opinion in Save Our Cabinets v. U.S. Fish & Wildlife Serv. (No. CV 15-69-M-DWM) issued concurrently with the first, the Court ruled that the U.S. Fish and Wildlife Service violated the Endangered Species Act (ESA) because the No Jeopardy conclusions regarding bull trout and grizzly bears were flawed and that the Forest Service violated the ESA by relying on the flawed Biological Opinions. The Court vacated the Forest Service decision approving the project and remanded the 2016 ROD and JFEIS back to the Forest Service for further action, “either through issuing a new Record of Decision that approves only the Evaluation Phase or one that again addresses the entire project.” Furthermore, the Court stated that the primary problem with the 2016 ROD was that it approved the entire project, not just the Evaluation Phase. The Court also remanded to the U.S. Fish and Wildlife Service its 2014 Biological Opinions. The SEIS will describe the activities that would occur during the Evaluation Phase of the Montanore Project, clarify what effects would occur as a result of those activities, and update resource analyses if there are significant new circumstances or information relevant to environmental concerns and bearing on the Evaluation Phase or its impacts in order to ensure a complete analysis of the environmental effects of the proposed federal action.

Following is a brief summary of the Evaluation Phase of the Montanore Project, as it would occur under Alternative 3 selected by the KNF in its 2016 ROD. Detailed descriptions of the alternatives studied in detail are provided in the Joint FEIS and ROD, which can be can be viewed or downloaded from the following website: https://www.fs.usda.gov/projects/kootenai/landmanagement/projects.

Evaluation Phase

The purposes of the Evaluation Phase would be to: (1) Expand the knowledge of the mineralized zones of the deposit; (2) assess and define the mineralized zone within established valid existing rights; and (3) collect, provide, and analyze additional geotechnical, hydrological, and other information necessary for preparation of a mine plan for subsequent phases. An updated mine Plan of Operations would be required should MMC decide, based on the assessment of the orebody and other information collected during the Evaluation Phase, to pursue subsequent phases of the project. Information collected during the Evaluation Phase would be used to confirm and update the analysis for subsequent phases that was provided in the JFEIS, should the KNF receive an updated mine Plan of Operations for subsequent project phases.

The Evaluation Phase is anticipated to last 18 to 24 months. MMC would dewater the full extent of the existing Libby Adit and develop an additional 10,500 feet of drifts and 35 drill stations above the currently defined ore zones. MMC would drill ahead of the drifts and keep all drill stations 300 feet from the Rock Lake Fault and 1,000 feet from Rock Lake. The drill core would be used to support resource modeling, mine planning, metallurgical testing, preliminary hydrology assessment, and rock mechanic studies for the full Montanore Project. An estimated 287,000 tons (140,000 cubic yards) of waste rock would be generated and stored on private land at the Libby Adit Site. The waste rock storage areas would be lined to collect runoff from the area and seepage through the waste rock.

Water from the Libby Adit and from the waste rock storage area would be treated before discharging to MPDES-permitted outfalls. The MPDES permit MT0030279, which the DEQ issued in 2017, sets effluent limits and establishes monitoring for wastewater discharges from the Libby Adit Water Treatment Plant. Treated water would be discharged to a percolation pond located at the Libby Adit Site.

MMC would use Tier 4 generators, if available, or Tier 3 generators for all Evaluation Phase activities and would be subject to the limits, emission controls, and mitigations required by its Air Quality Permit (MAQP #3788-00). MMC would also use Tier 4 engines, if available, or Tier 3 engines on underground mobile equipment and use ultra-low sulfur diesel fuel in generator and underground mobile equipment engines during the Evaluation Phase.

In addition to underground activities, MMC would conduct field studies on National Forest System lands between Poorman and Little Cherry Creeks. The field studies would include a site reconnaissance and a drilling and sampling program to evaluate site geology, groundwater conditions and water quality. Surface disturbances would be reclaimed.

If MMC does not pursue subsequent phases of the project or if those phases are not approved by the Forest Service, MMC would install a concrete-reinforced hydraulic plug in the adit, reconstruct the original adit plug, remove all surface facilities, and regrade and revegetate the disturbed areas. Monitoring that would occur during the Evaluation Phase is described in Appendix C of the JFEIS.

Lead and Cooperating Agencies

The USDA Forest Service is the Lead Agency for this project. Other agencies may become a Cooperating Agency as the SEIS progresses.

Responsible Official

Christopher Savage, Forest Supervisor Kootenai National Forest, 31374 U.S. Highway 2, Libby, MT 59923 is the Responsible Official for the Montanore Project.

Dated: December 8, 2017.
Chris French,
Associate Deputy Chief, National Forest System.

[FR Doc. 2017-28060 Filed 12-27-17; 8:45 am]

BILLING CODE 3411-15-P